DEPARTMENT OF ENERGY

Federal Energy Regulatory Commission

[Project No. 14876-002]

Western Minnesota Municipal Power Agency; Notice of Intent To File License Application, Filing of Pre-Application Document (Pad), Commencement of ILP Pre-Filing Process, and Scoping; Request for Comments on the Pad and Scoping Document, and Identification of Issues and Associated Study Requests

a. Type of Filing: Notice of Intent to File License Application for an Original License and Commencing Pre-filing Process.

b. Project No.: 14876-002.

c. Dated Filed: June 28, 2022.

d. Submitted By: Western Minnesota Municipal Power Agency (Western Minnesota Power).

e. Name of Project: Gregory County Pumped Storage Project.

f. Location: The project would be located in Gregory and Charles Mix Counties, South Dakota. The project would use Lake Francis Case, which is formed by the U.S. Army Corps of Engineers' (Corps) Fort Randall Dam at river mile 880 on the Missouri River, as its lower reservoir. The project would include the construction of a new upper reservoir located on the western side of Lake Francis Case approximately 38 river miles upstream of Fort Randall Dam. The project would be located primarily on private and state lands, but would also occupy an unknown acreage of federal land.

g. Filed Pursuant to: 18 CFR part 5 of the Commission's Regulations.

h. Applicant Contacts: Terry Wolf, Second Assistant Secretary, Western Minnesota Municipal Power Agency, P.O. Box 88920, Sioux Falls, SD 57109-8920; (605) 330-6977; Terry.Wolf@mrenergy.com.

Tim Sullivan, Gomez and Sullivan Engineers, D.P.C, 41 Liberty Hill Road, P.O. Box 2179, Henniker, NH 03242; (603) 428-4960; timsullivan@gomezandsullivan.com.

i. FERC Contacts: Aaron Liberty at (202) 502-6862 or email at aaron.liberty@ferc.gov; or Nicholas Ettema at (312) 596-4447 or email at nicholas.ettema@ferc.gov.

j. Cooperating agencies: Federal, state, local, and tribal agencies with jurisdiction and/or special expertise with respect to environmental issues that wish to cooperate in the preparation of the environmental document should follow the instructions for filing such requests described in item o below. Cooperating agencies should note the Commission's policy that agencies that cooperate in the preparation of the environmental document cannot also intervene. See 94 FERC ¶ 61,076 (2001).

k. With this notice, we are initiating informal consultation with: (a) the U.S. Fish and Wildlife Service under section 7 of the Endangered Species Act and the joint agency regulations thereunder at 50 CFR part 402 and (b) the State Historic Preservation Officer, as required by section 106, National Historic Preservation Act, and the implementing regulations of the Advisory Council on Historic Preservation at 36 CFR 800.2.

l. With this notice, we are designating Western Minnesota Power as the Commission's non-federal representative for carrying out informal consultation, pursuant to section 7 of the Endangered Species Act and section 106 of the National Historic Preservation Act.

m. Western Minnesota Power filed with the Commission a Pre-Application Document (PAD, including a proposed process plan and schedule), pursuant to 18 CFR 5.6 of the Commission's regulations.

n. A copy of the PAD may be viewed on the Commission's website (http://www.ferc.gov) using the “eLibrary” link. Enter the docket number, excluding the last three digits in the docket number field, to access the document. For assistance, contact FERC at FERCOnlineSupport@ferc.gov or call toll-free, (866) 208-3676 or TYY, (202) 502-8659. A copy of the PAD is also available for public inspection during normal business hours at Missouri River Energy Services' offices located at 3724 West Avera Drive, Sioux Falls, SD 57109.

You may register online at https://ferconline.ferc.gov/FERCOnline.aspx to be notified via email of new filings and issuances related to this or other pending projects. For assistance, contact FERC Online Support.

o. With this notice, we are soliciting comments on the PAD and Commission staff's Scoping Document 1 (SD1), as well as study requests. All comments on the PAD and SD1, and study requests should be sent to the addresses above in paragraph h. In addition, all comments on the PAD and SD1, study requests, requests for cooperating agency status, and all communications to and from Commission staff related to the merits of the potential application must be filed with the Commission.

The Commission strongly encourages electronic filing. Please file all documents using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Gregory County Pumped Storage Project (P-14876-002).

All filings with the Commission must bear the appropriate heading: “Comments on Pre-Application Document,” “Study Requests,” “Comments on Scoping Document 1,” “Request for Cooperating Agency Status,” or “Communications to and from Commission Staff.” Any individual or entity interested in submitting study requests, commenting on the PAD or SD1, and any agency requesting cooperating status must do so by October 26, 2022.

p. The Commission's scoping process will help determine the required level of analysis and satisfy the NEPA scoping requirements, irrespective of whether the Commission prepares an environmental assessment or Environmental Impact Statement.

Scoping Process

Due to ongoing concerns with large gatherings related to COVID-19, we do not intend to hold in-person public scoping meetings or an in-person environmental site review. Rather, Commission staff will hold two public scoping meetings using a telephone conference line. The daytime scoping meeting will focus on resource agency, Indian tribes, and non-governmental organization (NGO) concerns, while the evening scoping meeting will focus on receiving input from the public. We invite all interested agencies, Native American tribes, NGOs, and individuals to attend one of these meetings to assist us in identifying the scope of environmental issues that should be analyzed in the NEPA document. Additionally, a virtual site tour of the proposed project should be posted on Western Minnesota Power's licensing website prior to the scoping meetings. Visuals included in the virtual site tour will be referenced during Western Minnesota Power's presentation of the project during the scoping meetings. The dates and times of the meetings as well as how to access the virtual site tour are listed below.

Virtual Site Tour of the Project

Access online at: https://www.mrenergy.com/energy-resources/gregory-county-pumped-storage-project

Meeting for Resource Agencies, Tribes, and NGOs

Thursday, September 22, 2022, 10:00 a.m.-12:00 p.m. CDT, Call in number: (800) 779-8625, Access code: 3472916

Following entry of the access code, please provide the required details when prompted.

Meeting for the General Public

Thursday, September 22, 2022, 6:00 p.m.-8:00 p.m. CDT, Call in number: (800) 779-8625, Access code: 3472916

Following entry of the access code, please provide the required details when prompted.

SD1, which outlines the subject areas to be addressed in the environmental document, was mailed to the individuals and entities on the Commission's mailing list and Western Minnesota Power's distribution list. Copies of SD1 may be viewed on the web at http://www.ferc.gov, using the “eLibrary” link. Enter the docket number excluding the last three digits in the docket number field to access the document. Based on all oral and written comments, a Scoping Document 2 (SD2) may be issued. SD2 will include a revised process plan and schedule, as well as a list of issues, based on the scoping process.

Meeting Objectives

At the scoping meetings, Commission staff will: (1) initiate scoping of the issues; (2) review and discuss existing conditions; (3) review and discuss existing information and identify preliminary information and study needs; (4) review and discuss the process plan and schedule for pre-filing activity that incorporates the time frames provided for in Part 5 of the Commission's regulations and, to the extent possible, maximizes coordination of federal, state, and tribal permitting and certification processes; and (5) discuss the potential of any federal or state agency or Indian tribe to act as a cooperating agency for development of an environmental document. Meeting participants should come prepared to discuss their issues and/or concerns. Please review the PAD in preparation for the scoping meetings. Directions on how to obtain a copy of the PAD and SD1 are included in item n of this document.

Meeting Procedures

Commission staff will be moderating the scoping meetings. The meetings will begin promptly at their respective start times listed above.

At the start of the meeting, staff will provide further instructions regarding the meeting setup, agenda, and time period for comments and questions. We ask for your patience as staff present information and field participant comments in an orderly manner. To indicate you have a question or comment, press * and 3 to virtually “raise your hand.” Oral comments will be limited to 5 minutes in duration for each participant. The meetings will be recorded by a stenographer and will be filed to the public record of the project.

Please note, that if no participants join the meetings within 15 minutes after the start time, staff will end the meeting and conference call. The meetings will end after participants have presented their oral comments or at the specified end time, whichever occurs first.

Dated: August 19, 2022.
Kimberly D. Bose,
Secretary.

[FR Doc. 2022-18336 Filed 8-24-22; 8:45 am]

BILLING CODE 6717-01-P